DEPARTMENT OF STATE

[Public Notice: 8729]

30-Day Notice of Proposed Information Collection: DS 4053, Department of State Mentor Protégé Program Application

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to June 11, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Nikki Burley, A/SDBU, SA-6 Room L-500, Washington, DC 20522-0602, who may be reached on or at burleynb@state.gov.

SUPPLEMENTARY INFORMATION:

• Title of Information Collection: 30-Day Notice of Proposed Information Collection: DS 4053, Department of State Mentor-Protégé Program Application.

• OMB Control Number: OMB 1405-0161.

• Type of Request: Extension of a Currently Approved Collection.

• Originating Office: Bureau of Administration, Office of Small and Disadvantaged Business Utilization-A/SDBU.

• Form Number: DS-4053.

• Respondents: Small and large businesses planning to team together in an official mentor-protégé capacity to enhance the capabilities of the protégé firms to perform as prime contractors and subcontractors on Department of State procurements.

• Estimated Number of Respondents: 20.

• Estimated Number of Responses: 20.

• Average Time per Response: 12 hours.

• Total Estimated Burden Time: 240 hours.

• Frequency: On Occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: This information collection facilitates the Mentor-Protégé Program per Department of State Acquisition Regulations (DOSAR) 48 CFR 619.202-70, which encourages business agreements between small and large for-profit companies, for the purpose of forming a mentor-protégé relationship that will provide developmental assistance and to enhance the capabilities of the protégé firms to perform as prime contractors and subcontractors on Department of State procurements. The burden hour estimate includes an initial application (8 hours) and an annual report (4 hours), both to be filled out by Mentors.

Methodology: Respondents may submit the information by email using the DS-4053, or by letter using fax or postal mail.

Dated: May 6, 2014.
Shapleigh C. Drisko,
Office of Small Disadvantage Business Utilization Director, A-SDBU, Department of State.

[FR Doc. 2014-10819 Filed 5-9-14; 8:45 am]

BILLING CODE 4710-15-P